DEPARTMENT OF THE INTERIOR

Bureau of Indian Affairs

Notice of Availability of the Draft Environmental Impact Statement for the Proposed Fee-to-Trust Conveyance of Property for the Cayuga Indian Nation of New York, Cayuga and Seneca Counties, NY

AGENCY: Bureau of Indian Affairs, Interior.

ACTION: Notice.

SUMMARY: This notice advises the public that the Bureau of Indian Affairs (BIA), as the lead agency, with the Cayuga Indian Nation of New York (Nation) as a cooperating agency, intends to file a draft Environmental Impact Statement (DEIS) with the U.S. Environmental Protection Agency for the proposed acquisition into trust status of 125± acres of land that is currently held in fee status by the Nation and that the DEIS is now available for public review. The purpose of the proposed action is to create a Tribal land base and to help meet the Nation's socio-economic needs. This notice also announces a public hearing for receiving comments on the DEIS analysis.

DATES: Written comments on the DEIS must arrive by July 6, 2009. The public hearing will be held June 17, 2009, from 6 to 9 p.m., or until the last public comment is received.

ADDRESSES: You may mail, hand carry or fax written comments to Franklin Keel, Regional Director, Eastern Regional Office, Bureau of Indian Affairs, 545 Marriott Drive, Suite 700, Nashville, Tennessee 37214, Fax (615) 564-6701.

The public meeting will be held at the New York Chiropractic College, 2360 State Route 89, Seneca Falls, NY 13148.

See SUPPLEMENTARY INFORMATION for locations where the DEIS will be available for review and instructions for submitting comments.

FOR FURTHER INFORMATION CONTACT: Kurt G. Chandler, (615) 564-6832.

SUPPLEMENTARY INFORMATION:

The Nation has requested that the BIA take into trust 125± acres of land currently held in fee in Cayuga and Seneca Counties, New York. The DEIS's currently proposed alternatives are:

(A) The Proposed Action—This alternative is the action proposed by the Nation, to take all 125± acres into trust;

(B) No Action Alternative—This alternative is for no acquisition of land into trust; and

(C) Enterprise Properties into Trust—This alternative includes acquisition of a single section of contiguous parcels in Seneca County and a single section of contiguous parcels in Cayuga County and was proposed to analyze whether there were any specific impacts related to the contiguity of the parcels.

The proposed Federal Action is to approve and adopt the DEIS, dated April 2009, as a Final Environmental Impact Statement for the purposes of compliance with the National Environmental Policy Act of 1969.

Directions for Submitting Public Comments

Please include your name, return address and the caption, “DEIS Comments, Cayuga Indian Nation of New York Trust Acquisition Project,” on the first page of your written comments.

Public Availability of the DEIS

Copies of the DEIS will be available for viewing at the following locations during normal business hours:

• Lakeside Trading, 2552 Route 89, Seneca Falls, NY 13148;

• Lakeside Trading, 299 Cayuga Street, Union Springs, NY 13160;

• Seneca Falls Library, 47 Cayuga St., Seneca Falls, NY 13148; and

• Springport Free Library, 171 Cayuga St., P.O. Box 501, Union Springs, NY 13160.

Public Comment Availability

Comments, including names and addresses of respondents, will be available for public review at the mailing address for the BIA Eastern Regional Office shown in the ADDRESSES section during regular business hours, 8 a.m. to 4:30 p.m. (unless otherwise shown), Monday through Friday, except holidays. Before including your address, phone number, or other personal identifying information in your comment, you should be aware that your entire comment—including your personal identifying information—may be made publicly available at any time. While you can ask us in your comment to withhold your personal identifying information from public review, we cannot guarantee that we will be able to do so.

Authority

This notice is published in accordance with section 1503.1 of the Council on Environmental Quality Regulations (40 CFR Parts 1500 through 1508) implementing the procedural requirements of the National Environmental Policy Act of 1969, as amended (42 U.S.C. 4321 et seq.), and the Department of the Interior Manual (516 DM 1-6), and is in the exercise of authority delegated to the Principal Deputy Assistant Secretary—Indian Affairs by 209 DM 8.1.

Dated: March 30, 2009.
George T. Skibine,
Deputy Assistant Secretary for Policy and Economic Development.

[FR Doc. E9-11999 Filed 5-21-09; 8:45 am]

BILLING CODE 4310-W7-P